DEPARTMENT OF HEALTH AND HUMAN SERVICES

Food and Drug Administration

[Docket No. 1999N-1168]

Relative Risk to Public Health From Foodborne Listeria Monocytogenes Among Selected Categories of Ready-to-Eat Foods; Quantitative Risk Assessment and Risk Management Action Plan; Notice of Public Meeting

AGENCY: Food and Drug Administration, HHS.

ACTION: Notice of meeting.

SUMMARY: The Food and Drug Administration (FDA) of the Department of Health and Human Services (HHS) is announcing a public meeting to present the “Quantitative Assessment of the Relative Risk to Public Health from Foodborne Listeria monocytogenes Among Selected Categories of Ready-to-Eat Foods” and to present information relative to the risk management action plan that has been updated in light of the results of the risk assessment. The risk assessment was conducted by FDA in cooperation with the Food Safety and Inspection Service (FSIS) of the U.S. Department of Agriculture and in consultation with the Centers for Disease Control and Prevention (CDC) of HHS. The notice of availability of the risk assessment was published in the Federal Register on October 24, 2003 (68 FR 61006). This public meeting is intended to provide clarification about the results of the risk assessment and information as to how the risk assessment may be utilized. Stakeholders will have an opportunity to ask questions about the risk assessment and the risk management action plan. Questions may also be submitted in advance of the public meeting (see the Contact section of this document).

Date and Time: The meeting will be held on December 4, 2003, from at 8:30 a.m. to 5 p.m. Registration and requests for formal oral presentations by December 2, 2003.

Location: The meeting will be held at the FDA/CFSAN Harvey W. Wiley Building, 1500 Paint Branch Pkwy., College Park, MD 20740-3835.

Contact: Lori Pisciotta, Center for Food Safety and Applied Nutrition (CFSAN) (HFS-006), Food and Drug Administration, 5100 Paint Branch Pkwy., College Park, MD, 301-436-2279, FAX: 301-436-2630, e-mail: lpisciot@cfsan.fda.gov.

Registration and Requests for Oral Presentation: Send registration information (including name, title, firm name, address, telephone and fax number), to the contact person by December 2, 2003. Interested persons may present data, information, or views orally or in writing, on the issue. If you desire to make a formal oral presentation, you should notify the contact person before December 2, 2003, and be prepared to give a brief description of the general nature of the information you wish to present. Time allotted for each presentation may be limited. Written submissions must also be made to the contact person by December 2, 2003.

If you need special accommodations due to a disability, please contact Ms. Pisciotta (see the Contact section) at least 7 days in advance of the meeting.

Transcripts: Transcripts of the meeting may be requested in writing from the Freedom of Information Office (HFI-35), Food and Drug Administration, 5600 Fishers Lane, rm. 12A-16, Rockville, MD 20857, approximately 15 working days after the meeting at a cost of 10 cents per page.

SUPPLEMENTARY INFORMATION: FDA is announcing a public meeting on December 4, 2003, to present the “Quantitative Assessment of the Relative Risk to Public Health from Foodborne Listeria monocytogenes Among Selected Categories of Ready-to-Eat Foods” and the risk management action plan that has been updated in light of the risk assessment. In the Federal Register of January 19, 2001 (66 FR 5515), FDA and FSIS announced the availability of a draft Listeria monocytogenes risk assessment and a draft risk management plan based on the risk assessment. FDA, FSIS, and CDC held a public meeting on March 19, 2001, to receive comments on the technical aspects of the draft risk assessment on the relationship between foodborne L. monocytogenes and human health. Interested persons were given until March 20, 2001, with extensions to May 21, 2001, and to July 18, 2001, to comment on these documents. The risk assessment has been revised in response to public comments, newly available data, and updated modeling techniques, and was made available to the public in the Federal Register of October 24, 2003 (68 FR 61006). Comparable revisions also have been made to the draft risk management action plan.

Dated: October 31, 2003.
Jeffrey Shuren,
Assistant Commissioner for Policy.

[FR Doc. 03-28005 Filed 11-6-03; 8:45 am]

BILLING CODE 4160-01-S